DEPARTMENT OF ENERGY

Federal Energy Regulatory Commission

[Docket Nos. CP07-4-000; CP07-5-000; CP07-6-000]

Mississippi Hub, L.L.C.; Notice of Application

October 20, 2006.

On October 10, 2006, in Docket Nos. CP07-4-000, CP07-5-000 and CP07-6-000, Mississippi Hub, L.L.C. (MS HUB), pursuant to section 7(c) of the Natural Gas Act, as amended, and part 157, subparts A and F, and part 284, subpart G of the Federal Energy Regulatory Commission's (Commission) regulations, filed requests for: authorization to construct, own, and operate the MS HUB Storage Project; a Subpart F construction, operation and abandonment blanket certificate (CP07-5-000); and, a Subpart G transportation blanket certificate (CP07-6-000). MS HUB also seeks: approval of its pro forma tariff; authorization to charge market-based rates for the proposed storage services; and, waiver of certain Commission regulations. Further, MS HUB asks that the Commission issue requested authorizations by February 15, 2007 so that: construction may start in spring 2007; initial storage injections can commence in spring and summer of 2008; and, withdrawals can begin by December 31, 2008. Start-up in this timeframe also would coincide with proposed in-service dates of certain Gulf Coast region liquefied natural gas import terminals.

The new, high-deliverability storage facility would be located in Simpson and Jefferson Davis Counties, Mississippi. The facility would have initial interconnections with two interstate (Southern Natural Gas Co. and Gulf South Pipeline) and one intrastate (CrossTex Energy) gas pipeline systems. Due to the sequential construction process associated with the solution mining of the two proposed caverns, MS HUB requests that the Commission authorize construction over a five-year period.

Questions concerning the application should be directed to by calling (281) 242-2381 or J. Gordon Pennington, Attorney at Law, 2707 N. Kensington St., Arlington, Virginia 22207 or at 703-533-7638 or pennington5@verizon.net.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a) (1) (iii) and the instructions on the Commission's web site under the “e-Filing” link at http://www.ferc.gov. The Commission strongly encourages intervenors to file electronically.

The Commission may issue a preliminary determination on non-environmental issues prior to the completion of its review of the environmental aspects of the Projects. This preliminary determination typically considers such issues as the need for the Project and its economic effect on other pipelines in the area and on land and communities.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: November 9, 2006.

Magalie R. Salas,
Secretary.

[FR Doc. E6-18128 Filed 10-27-06; 8:45 am]

BILLING CODE 6717-01-P